DEPARTMENT OF THE TREASURY

Fiscal Service

Notice of Rate To Be Used for Federal Debt Collection, and Discount and Rebate Evaluation

AGENCY: Bureau of the Fiscal Service, Fiscal Service, Treasury.

ACTION: Notice of rate to be used for Federal debt collection, and discount and rebate evaluation.

SUMMARY: The Secretary of the Treasury is responsible for computing and publishing the percentage rate that is used in assessing interest charges for outstanding debts owed to the Government (The Debt Collection Act of 1982, as amended). This rate is also used by agencies as a comparison point in evaluating the cost-effectiveness of a cash discount. In addition, this rate is used in determining when agencies should pay purchase card invoices when the card issuer offers a rebate. The percentage rate generally is calculated on an annual, calendar year basis; however, quarterly adjustments are made to the rate if the annual average of the method used to calculate it results in a change of 2 percent or more. Notice is hereby given that such an adjustment is being implemented, and the applicable rate for April through December 2023 is 3.00 percent.

DATES: April 1, 2023, through December 31, 2023.

FOR FURTHER INFORMATION CONTACT: Department of the Treasury, Bureau of the Fiscal Service, Disbursing and Debt Management, E-Commerce Division (LC-RM 349B), 3201 Pennsy Drive, Building E, Landover, MD 20785 (Telephone: 202-874-9428).

SUPPLEMENTARY INFORMATION: The rate reflects the Current Value of Funds to the Treasury for use in connection with Federal Cash Management systems and is based on investment rates set for purposes of Public Law 95-147, 91 Stat.1227 (October 28, 1977). The Treasury Office of Debt Management provides the annual Interest Rate Factors used in determining the Current Value of Funds Rate, which are based on weekly average of the Effective Federal Funds Rate, less 25 basis points for the 12-month period ending every September 30. The Current Value of Funds Rate is rounded to the nearest whole percentage and becomes effective each January 1.

Quarterly revisions are made if the annual average, on a moving basis, changes by 2 percentage points or more. The previous notice of rate to be used for Federal debt collection, and discount and rebate evaluation, dated November 21, 2022, announced the rate of 1.00 percent for calendar year 2023. However, with the quarter ending March 30, 2023, the 12-month moving average investment rate increased by 2 percent. Therefore, Treasury is revising the Current Value of Funds Rate for the remainder of calendar year 2023.

The percentage rate to be applied during the period April 1, 2023, through December 31, 2023, is 3.00 percent.

Authority: 31 U.S.C. 3717.

Linda Claire Chero,
Assistant Commissioner, Disbursing and Debt Management and Chief Disbursing Officer.

[FR Doc. 2023-10814 Filed 5-19-23; 8:45 am]

BILLING CODE 4810-AS-P